ENVIRONMENTAL PROTECTION AGENCY

[FRL-8306-9]

Federal Advisory Committee on Detection and Quantitation Approaches and Uses in Clean Water Act Programs

AGENCY: Environmental Protection Agency.

ACTION: Notice; FACA committee meeting announcement.

SUMMARY: As required by the Federal Advisory Committee Act, Public Law 92-463, the Environmental Protection Agency is announcing a three-day meeting of the Federal Advisory Committee on Detection and Quantitation Approaches and Uses in Clean Water Act (CWA) Programs (FACDQ).

DATES: A meeting of the FACDQ will be held on Wednesday, Thursday, and Friday, June 6, 7, and 8, 2007. The meeting on June 6 and 7 will be from 9 a.m. until 8 p.m. and on June 8, from 8 a.m. to 3 p.m. All times are Eastern Daylight Time.

ADDRESSES: The meeting will be held at the Virginian Suites, 1500 Arlington Blvd., Arlington, Virginia 22209. Members of the public may attend in person or via teleconference. The public may obtain the call-in number and access code for the teleconference lines from Meghan Hessenauer, whose contact information is listed under the FOR FURTHER INFORMATION CONTACT section of this notice.

Document Availability: The agenda for the meeting is provided in the General Information section of this notice or from Meghan Hessenauer whose contact information is listed under the FOR FURTHER INFORMATION CONTACT section of this notice. The agenda may also be viewed through EDOCKET, as provided in section I.A. of the SUPPLEMENTARY INFORMATION section of this notice. Any member of the public interested in making an oral presentation at the meeting may contact Richard Reding, whose contact information is listed under FOR FURTHER INFORMATION CONTACT section of this notice. Requests for making oral presentations will be accepted up to June 4, 2007. In general, each oral presentation will be limited to a total of three minutes.

Submitting Comments: Written comments may be submitted electronically, by mail, or through hand delivery/courier. Follow the detailed instructions as provided in section I.B of the SUPPLEMENTARY INFORMATION section. Written comments will be accepted up to two business days prior to the start of the meeting.

FOR FURTHER INFORMATION CONTACT: Meghan Hessenauer, Engineering and Analysis Division, 4303T, Environmental Protection Agency, 1200 Pennsylvania Ave., NW., Washington, DC 20460; telephone number: (202) 566-1040; fax number: (202) 566-1053; e-mail address: hessenauer.meghan@epa.gov; Richard Reding, Designated Federal Officer, Environmental Protection Agency, Office of Water, 4303T, 1200 Pennsylvania Ave., NW., Washington, DC 20460; telephone number: (202) 566-2237; fax number: (202) 566-1053; e-mail address: reding.richard@epa.gov.

SUPPLEMENTARY INFORMATION:

I. General Information

This notice announces a meeting of the Federal Advisory Committee on Detection and Quantitation Approaches and Uses in CWA Programs. The purpose of the meeting is to review a report from the Technical Work Group on the results of the Pilot Study, to review the Technical Work Group's evaluation of the procedures tested in the Pilot Study relative to the FACDQ's criteria, to develop a recommendation on procedures for detection and quantitation, and to review and make decisions relative to the uses of the results of the analytical testing methods. The Advisory committee will provide direction to both the Policy and the Technical Work Groups on additional work to be carried out in advance of the committee's next 2007 meeting.

Information on Services for Individuals With Disabilities

For information on access or services for individuals with disabilities, please contact Meghan Hessenauer at (202) 566-1040 or e-mail: hessenauer.meghan@epa.gov to request accommodation of a disability, at least ten days prior to the meeting, to give EPA as much time as possible to process your request.

A. How Can I Get Copies of Related Information?

1. Docket. EPA has established a docket for this committee under Docket ID No. EPA-HQ-OW-2004-0041 in the EPA Docket Center (EPA/DC). In addition to electronic access through www.regulations.gov, public inspection of the docket materials will be available by appointment. Appointments may be made by calling (202) 566-1744. The public reading room is in EPA West, Room 3334 at 1301 Constitution Ave., N.W., Washington, DC.

2. Electronic Access. You may access this Federal Register document through the EPA Internet under the Federal Register listings at http://www.epa.gov/fedrgstr/. An electronic version of the public docket is available through http://www.regulations.gov. You may use http://www.regulations.gov to submit or view public comments, access the index listing of the contents of the official public docket, and to access those documents in the public docket that are available electronically. Once in the system, select “search”, then, key in the appropriate docket identification number, EPA-HQ-OW-2004-0041. You may also view the meeting material on the website, www.epa.gov/waterscience/methods/det/.

B. How and To Whom Do I Submit Comments?

You may submit comments electronically, by mail, or through hand delivery/courier. To ensure proper receipt by EPA, identify the appropriate docket identification number (OW-2004-0041) in the subject line on the first page of your comment. Please ensure that your comments are submitted within the specified comment period.

1. Electronically. If you submit an electronic comment as prescribed below, EPA recommends that you include your name, mailing address, or an e-mail address or other contact information in the body of your comment. Also include this contact information on the outside of any disk or CD ROM you submit, and in any cover letter accompanying the disk or CD ROM. This ensures that you can be identified as the submitter of the comment, and it allows EPA to contact you if further information on the substance of the comment is needed or if your comment cannot be read due to technical difficulties. EPA's policy is that EPA will not edit your comment, and any identifying or contact information provided in the body of the comment will be included as part of the comment placed in the official public docket and made available in EPA's electronic public docket. If EPA cannot read your comment due to technical difficulties and cannot contact you for clarification, EPA may not be able to consider your comment.

i. EDOCKET. Your use of EPA's electronic public docket to submit comments to EPA electronically is EPA's preferred method for receiving comments. Go directly to http://www.regulations.gov and follow the online instructions for submitting comments. To access EPA's electronic public docket from the EPA Internet Home Page, http://www.epa.gov, select “Information Sources”, “Dockets”. Once in the system, select “search” and then key in Docket ID No., EPA-HQ-OW-2004-0041. The system is an anonymous access system, which means EPA will not know your identity, e-mail address, or other contact information unless you provide it in the body of your comment.

ii. E-mail. Comments may be sent by electronic mail (e-mail) to OW-Docket@epa.gov, Attention Docket ID No., EPA-HQ-OW-2004-0041. In contrast to EPA's electronic public docket, EPA's e-mail system is not an anonymous access system. If you send an e-mail comment directly to the docket without going through EPA's electronic public docket, EPA's e-mail system automatically captures your e-mail address. E-mail addresses that are automatically captured by EPA's e-mail system are included as part of the comment that is placed in the official public docket, and made available in EPA's electronic public docket.

iii. Disk or CD ROM. Your may submit comments on a disk or CD ROM mailed to the mailing address identified in Section I.B.2 of this notice. These electronic submissions will be accepted in Word, or rich text files. Avoid the use of special characters and any form of encryption.

2. By Mail. Send your comments to: U.S. Environmental Protection Agency, OW Docket, EPA Docket Center (EPA/DC), Mailcode: 2822T, 1200 Pennsylvania Ave., NW., Washington, DC 20460, Attention Docket ID No., OW-2004-0041.

3. By Hand Delivery or Courier. Deliver your comments to: EPA Docket Center (EPA/DC), 1301 Constitution Ave., NW., Washington, DC. Attention Docket ID No., OW-2004-0041 (Note: this is not a mailing address). Such deliveries are only accepted during the docket's normal hours of operation as identified in Section I.A.1 of this notices. For those wishing to make public comments, it is important to note that EPA's policy is that comments, whether submitted electronically or on paper, will be made available for public viewing in EPA's electronic public docket as EPA receives them and without change, unless the comment contains copyrighted material, confidential business information, or other information whose disclosure is restricted by statute. When EPA identifies a comment containing copyrighted material, EPA will provide a reference to that material in the version of the comment that is placed in EPA's electronic public docket. The entire printed comment, including the copyrighted material, will be available in the public docket. Public comments submitted on computer disks mailed or delivered to the docket will be transferred to EPA's electronic public docket. Written public comments mailed or delivered to the Docket will be scanned and placed in EPA's electronic public docket.

Dated: April 20, 2007.
Richard Reding,
Designated Federal Officer, Office of Water.

[FR Doc. E7-8101 Filed 4-26-07; 8:45 am]

BILLING CODE 6560-50-P